ENVIRONMENTAL PROTECTION AGENCY

[FRL-10304-01-OA]

Local Government Advisory Committee (LGAC) Meeting

AGENCY: Environmental Protection Agency (EPA).

ACTION: Notification of public meeting.

SUMMARY: Pursuant to the Federal Advisory Committee Act (FACA), EPA hereby provides notice of a meeting for the Local Government Advisory Committee (LGAC) and the Small Communities Advisory Subcommittee (SCAS) on the date and time described below. This meeting will be open to the public. For information on public attendance and participation, please see the registration information under SUPPLEMENTARY INFORMATION.

DATES: The LGAC will meet virtually November 18th, 2022, from 2:00 p.m. through 4:00 p.m. Eastern Standard Time.

FOR FURTHER INFORMATION CONTACT: Paige Lieberman, Designated Federal Officer (DFO), at LGAC@epa.gov or 202-564-9957.

Information on Accessibility: For information on access or services for individuals requiring accessibility accommodations, please contact Paige Lieberman by email at LGAC@epa.gov. To request accommodation, please do so five (5) business days prior to the meeting, to give EPA as much time as possible to process your request.

SUPPLEMENTARY INFORMATION: The LGAC has been deliberating on the following issues and will discuss and vote on draft recommendations for each at this meeting.

1. As EPA works to support the water workforce, how can we ensure that we are making effective and efficient investments. The EPA asks the LGAC to advise on the following ways to support:

—Training and apprenticeship opportunities

—New and innovative ways to recruit and retain employees

—Targeted resources for utilities and municipalities

—Ways to streamline certification requirements

—New or adapted partnerships with states, municipalities, tribes, territories, industry, nonprofit organizations and/or academia

2. The Inflation Reduction Act (IRA) allocates significant funding for greenhouse gas reduction programs, which will help states, tribes, territories, and local governments take action against climate change through grant programs, technical assistance, code development, and more. At the same time, it allocates $1 billion to cover the incremental costs of replacing dirty medium and heavy-duty vehicles zero-emitting vehicles. What information and resources do local governments need to pursue such initiatives, specifically those that reduce greenhouse gas emissions through the decarbonization of municipal fleets and buildings? As EPA implements this new program, how can it ensure that local communities and their concerns are supported?

Additionally, the LGAC will hear recommendations developed by its Small Communities Advisory Subcommittee (SCAS) on the following topic:

How can EPA better support small communities as it implements the Bipartisan Infrastructure Law. Specifically, how can EPA:

—Support clean and sustainable air, water, and land priorities for small and rural communities

—Support capacity needs/advancement for small and rural communities

—Ensure long-lasting communication between EPA and local officials from small and rural communities

—Ensure small communities are positioned to benefit from this generational investment in environmental infrastructure

All interested persons are invited to attend and participate. The LGAC will hear comments from the public from 3:40-3:50 p.m. (EST). Individuals or organizations wishing to address the Committee or Subcommittee will be allowed a maximum of five (5) minutes to present their point of view. Also, written comments should be submitted electronically to LGAC@epa.gov for the LGAC and SCAS. Please contact the DFO at the email listed under FOR FURTHER INFORMATION CONTACT to schedule a time on the agenda by October 12, 2021. Time will be allotted on a first-come first-served basis, and the total period for comments may be extended if the number of requests for appearances requires it.

Registration: The meeting will be held virtually through an online audio and video platform. Members of the public who wish to participate should register by contacting the Designated Federal Officer (DFO) at LGAC@epa.gov by November 17, 2022. The agenda and other supportive meeting materials will be available online at https://www.epa.gov/ocir/local-government-advisory-committee-lgac and will be emailed to all registered. In the event of cancellation for unforeseen circumstances, please contact the DFO or check the website above for reschedule information.

Julian Bowles,
Director, State and Local Relations, Office of Congressional and Intergovernmental Relations.

[FR Doc. 2022-23029 Filed 10-21-22; 8:45 am]

BILLING CODE 6560-50-P